DEPARTMENT OF ENERGY

Federal Energy Regulatory Commission

Combined Notice of Filings #1

Take notice that the Commission received the following exempt wholesale generator filings:

Docket Numbers: EG25-213-000.

Applicants: Roadrunner Solar LLC.

Description: Roadrunner Solar LLC submits Notice of Self-Certification of Exempt Wholesale Generator Status.

Filed Date: 3/10/25.

Accession Number: 20250310-5103.

Comment Date: 5 p.m. ET 3/31/25.

Docket Numbers: EG25-214-000.

Applicants: Roadrunner Battery Storage LLC.

Description: Roadrunner Battery Storage LLC submits Notice of Self-Certification of Exempt Wholesale Generator Status.

Filed Date: 3/10/25.

Accession Number: 20250310-5106.

Comment Date: 5 p.m. ET 3/31/25.

Docket Numbers: EG25-215-000.

Applicants: Roadrunner Solar SF LLC.

Description: Roadrunner Solar SF LLC submits Notice of Self-Certification of Exempt Wholesale Generator Status.

Filed Date: 3/10/25.

Accession Number: 20250310-5108.

Comment Date: 5 p.m. ET 3/31/25.

Docket Numbers: EG25-216-000.

Applicants: Roadrunner BESS SF LLC.

Description: Roadrunner BESS SF LLC submits Notice of Self-Certification of Exempt Wholesale Generator Status.

Filed Date: 3/10/25.

Accession Number: 20250310-5109.

Comment Date: 5 p.m. ET 3/31/25.

Docket Numbers: EG25-217-000.

Applicants: Wizard Energy Storage LLC.

Description: Wizard Energy Storage LLC submits Notice of Self-Certification of Exempt Wholesale Generator Status.

Filed Date: 3/10/25.

Accession Number: 20250310-5167.

Comment Date: 5 p.m. ET 3/31/25.

Docket Numbers: EG25-218-000.

Applicants: Kingman Wind I, LLC.

Description: Kingman Wind I, LLC submits Notice of Self-Certification of Exempt Wholesale Generator Status.

Filed Date: 3/10/25.

Accession Number: 20250310-5193.

Comment Date: 5 p.m. ET 3/31/25.

Docket Numbers: EG25-219-000.

Applicants: Kingman Wind II, LLC.

Description: Kingman Wind II, LLC submits Notice of Self-Certification of Exempt Wholesale Generator Status.

Filed Date: 3/10/25.

Accession Number: 20250310-5202.

Comment Date: 5 p.m. ET 3/31/25.

Docket Numbers: EG25-220-000.

Applicants: Ninnescah Wind Renewables, LLC.

Description: Ninnescah Wind Renewables, LLC submits Notice of Self-Certification of Exempt Wholesale Generator Status.

Filed Date: 3/10/25.

Accession Number: 20250310-5231.

Comment Date: 5 p.m. ET 3/31/25.

Take notice that the Commission received the following electric rate filings:

Docket Numbers: ER24-2035-001.

Applicants: Versant Power.

Description: Compliance filing: Order Nos. 2023 & 2023-A Amended Compliance Filing.

Filed Date: 3/10/25.

Accession Number: 20250310-5239.

Comment Date: 5 p.m. ET 3/31/25.

Docket Numbers: ER25-1073-000.

Applicants: PJM Interconnection, L.L.C.

Description: Motion for Leave to Answer and Answer of PJM Interconnection, L.L.C.

Filed Date: 3/10/25.

Accession Number: 20250310-5226.

Comment Date: 5 p.m. ET 3/31/25.

Docket Numbers: ER25-1285-000.

Applicants: Mammoth Plains Wind, LLC.

Description: Errata to 02/12/2025, Mammoth Plains Wind, LLC tariff filing.

Filed Date: 2/28/25.

Accession Number: 20250228-5484.

Comment Date: 5 p.m. ET 3/21/25.

Docket Numbers: ER25-1537-000.

Applicants: Puget Sound Energy, Inc., Northwestern Corporation.

Description: § 205(d) Rate Filing: NorthWestern Corporation submits tariff filing per 35.13(a)(2)(iii: Certificate of Concurrence—PSE SA 5158—LGIA with Jane Wind Energy, LLC to be effective 2/26/2025.

Filed Date: 3/7/25.

Accession Number: 20250307-5215.

Comment Date: 5 p.m. ET 3/28/25.

Docket Numbers: ER25-1538-000.

Applicants: Puget Sound Energy, Inc., Northwestern Corporation.

Description: § 205(d) Rate Filing: NorthWestern Corporation submits tariff filing per 35.13(a)(2)(iii: Certificate of Concurrence—PSE SA 5159—LGIA with Jane Wind Energy, LLC to be effective 2/26/2025.

Filed Date: 3/7/25.

Accession Number: 20250307-5222.

Comment Date: 5 p.m. ET 3/28/25.

Docket Numbers: ER25-1540-000.

Applicants: Garnet Mesa Solar LLC.

Description: § 205(d) Rate Filing: Petition for Blanket MBR Authorization with Waivers & Expedited Treatment to be effective 5/1/2025.

Filed Date: 3/10/25.

Accession Number: 20250310-5059.

Comment Date: 5 p.m. ET 3/31/25.

Docket Numbers: ER25-1541-000.

Applicants: Southwest Power Pool, Inc.

Description: § 205(d) Rate Filing: 3620R7 Kansas City Board of Public Utilities NITSA NOA) to be effective 7/1/2025.

Filed Date: 3/10/25.

Accession Number: 20250310-5067.

Comment Date: 5 p.m. ET 3/31/25.

Docket Numbers: ER25-1543-000.

Applicants: PJM Interconnection, L.L.C.

Description: § 205(d) Rate Filing: Original GIA, Service Agreement No. 7593; AF2-298 to be effective 5/10/2025.

Filed Date: 3/10/25.

Accession Number: 20250310-5082.

Comment Date: 5 p.m. ET 3/31/25.

Docket Numbers: ER25-1544-000.

Applicants: PJM Interconnection, L.L.C.

Description: Compliance filing: Offer of Settlement in Docket No. EL25-22-000 to be effective 12/31/9998.

Filed Date: 3/10/25.

Accession Number: 20250310-5225.

Comment Date: 5 p.m. ET 3/31/25.

Docket Numbers: ER25-1545-000.

Applicants: DG VDH BESS, LLC.

Description: § 205(d) Rate Filing: Application for Expedited Market-Based Rate Authorization—DG VDH BESS, LLC to be effective 4/21/2025.

Filed Date: 3/10/25.

Accession Number: 20250310-5234.

Comment Date: 5 p.m. ET 3/31/25.

Take notice that the Commission received the following electric securities filings:

Docket Numbers: ES25-34-000.

Applicants: Northern Maine Independent System Administrator, Inc.

Description: Application Under Section 204 of the Federal Power Act for Authorization to Issue Securities of Northern Maine Independent System Administrator, Inc.

Filed Date: 3/5/25.

Accession Number: 20250305-5289.

Comment Date: 5 p.m. ET 3/26/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 10, 2025.
Carlos D. Clay,
Deputy Secretary.

[FR Doc. 2025-04168 Filed 3-14-25; 8:45 am]

BILLING CODE 6717-01-P